DEPARTMENT OF HOMELAND SECURITY

Coast Guard

33 CFR Parts 140, 143, and 146

46 CFR Parts 61 and 62

[Docket No. USCG-2014-0063]

RIN 1625-AC16

Requirements for MODUs and Other Vessels Conducting Outer Continental Shelf Activities With Dynamic Positioning Systems

AGENCY: Coast Guard, DHS.

ACTION: Notice of proposed rulemaking; withdrawal.

SUMMARY: The Coast Guard is withdrawing the proposed rule entitled “Requirements for MODUs and Other Vessels Conducting Outer Continental Shelf Activities with Dynamic Positioning Systems” published on November 28, 2014. We are taking this action because there have been changes in the industry in the past 7 years, including new standards and technologies, and the rule we proposed in 2014 is no longer appropriate in light of those changes. The Coast Guard may issue a new rulemaking in the future if warranted.

DATES: The notice of proposed rulemaking published on November 28, 2014 (79 FR 70943); comment period extended on February 6, 2015 (80 FR 6679); notice of public meeting and request for comments (80 FR 12784, March 11, 2015); and notice of availability published on July 29, 2016 (81 FR 49908), is withdrawn as of May 20, 2022.

ADDRESSES: The Docket for this withdrawal is available at the Federal eRulemaking Portal at https://www.regulations.gov. Please search for Docket Number USCG-2014-0063.

FOR FURTHER INFORMATION CONTACT: For information about this document call or email Lieutenant Commander Dimitri Wiener, Staff Engineer, Naval Architecture Division, CG-ENG, Coast Guard; telephone 202-372-1414, email Dimitrios.N.Wiener@uscg.mil.

SUPPLEMENTARY INFORMATION:

Background

On November 28, 2014, Coast Guard published a notice of proposed rulemaking titled “Requirements for MODUs and Other Vessels Conducting Outer Continental Shelf Activities with Dynamic Positioning Systems” in the Federal Register (79 FR 70943).¹ The proposed rulemaking sought to establish minimum design, operation, training, and manning standards for mobile offshore drilling units (MODUs) and other vessels using dynamic positioning systems to engage in Outer Continental Shelf activities. We viewed establishing these minimum standards as necessary at the time to improve the safety of people and property involved in such operations, and the protection of the environment in which they operate. The notice of proposed rulemaking sought to decrease the risk of a loss of position by a dynamically positioned MODU or other vessel that could result in a fire, explosion, or subsea spill, and to support the Coast Guard's strategic goals of maritime safety and protection of natural resources.

¹ The Coast Guard published three additional documents related to the 2014 NPRM. The comment period of the 2014 NPRM was extended on February 6, 2015 at 80 FR 6679. A notice of public meeting was published at 80 FR 12784, (March 11, 2015) and notice discussing the availability of three industry accepted training certification programs for dynamic positioning was published on July 29, 2016 (81 FR 49908).

Withdrawal

The Coast Guard is withdrawing the proposed rule published on November 28, 2014. Upon further review of current dynamic positioning system technologies, industry use of updated third-party standards, and the engineering and survey activities performed by recognized organizations, it is evident that significant change has occurred in the industry and that the original proposal is no longer appropriate.

The Coast Guard will continue to assess the risks associated with the use of dynamic positioning by vessels engaged in OCS activities, support the continuing development of third-party standards, oversee the work of recognized organizations, and request input from our Federal advisory committees, as appropriate. The Coast Guard may decide to develop new rulemaking proposals in the future, but Unified Agenda item 1625-AC16 will be completed once this notice is published.

This notice is issued under authority of 5 U.S.C. 552(a).

Dated: May 13, 2022.
W.R. Arguin,
Rear Admiral, U.S. Coast Guard, Assistant Commandant for Prevention Policy.

[FR Doc. 2022-10836 Filed 5-19-22; 8:45 am]

BILLING CODE 9110-04-P